DEPARTMENT OF COMMERCE

National Oceanic and Atmospheric Administration

50 CFR Part 660

[Docket No. 180207141-8783-01]

RIN 0648-BH74

Magnuson-Stevens Act Provisions; Fisheries Off West Coast States; Pacific Coast Groundfish Fishery; Groundfish Bottom Trawl and Midwater Trawl Gear in the Trawl Rationalization Program

AGENCY: National Marine Fisheries Service (NMFS), National Oceanic and Atmospheric Administration (NOAA), Commerce.

ACTION: Proposed rule, request for comments.

SUMMARY: NMFS proposes revising Federal regulations that restrict the use and configuration of bottom and midwater trawl gear for vessels fishing under the Pacific Coast Groundfish Fishery's Trawl Rationalization Program. The gear restrictions were originally implemented to limit discarding and protect overfished rockfish species. These restrictions are no longer necessary because of changes to the fishery, including implementation of the Trawl Rationalization Program in 2011, and improved status of a number of overfished rockfish stocks. By eliminating these regulations, the proposed action could increase flexibility in how vessels can use and configure gear to increase access to target stocks and efficiency of fishing practices, while still limiting the catch of target and non-target discards to meet the conservation objectives of the Trawl Rationalization Program.

DATES: Comments on this proposed rule must be received on or before October 9, 2018.

ADDRESSES: Submit your comments, identified by NOAA-NMFS-2018-0081, by any of the following methods:

• Online Submission: Go to the Federal e-Rulemaking Portal at www.regulations.gov/#!docketDetail;D=NOAA-NMFS-2018-0081, click the “Comment Now!” icon, complete the required fields, and enter or attach your comments.

• Mail: Submit written comments to Barry Thom, Regional Administrator, West Coast Region, NMFS, 7600 Sand Point Way NE, Seattle, WA 98115-0070.

NMFS may not consider comments if they are sent by any other method, to any other address or individual, or received after the comment period ends. All comments received are a part of the public record and NMFS will post the comments for public viewing on www.regulations.gov without change. All personal identifying information (e.g., name, address, etc.), confidential business information, or otherwise sensitive information submitted voluntarily by the sender is publicly accessible. NMFS will accept anonymous comments (enter “N/A” in the required fields if you wish to remain anonymous). Attachments to electronic comments will be accepted in Microsoft Word, Excel, or Adobe PDF file formats only.

Electronic copies of supporting documents referenced in this proposed rule, including the Environmental Assessment (EA) and Regulatory Impact Review (RIR)/Regulatory Flexibility Analysis (RFA), are available from www.regulations.gov or from the NMFS West Coast Region Groundfish Fisheries website at http://www.westcoast.fisheries.noaa.gov/fisheries/groundfish/index.html.

FOR FURTHER INFORMATION CONTACT: Karen Palmigiano, Fishery Management Specialist, 206-526-4491, or karen.palmigiano@noaa.gov.

SUPPLEMENTARY INFORMATION:

Table of Contents

I. Background

II. Summary of the Proposed Regulations

A. Proposed Regulations for Net Configuration

1. Eliminate Minimum Mesh Size Restriction

2. Revise the Definition of Mesh Size

3. Eliminate the Prohibition on Double-walled Codends

4. Eliminate Restrictions on the Use of Chafing Gear

5. Summary of Potential Impacts From Proposed Regulations for Net Configuration

B. Eliminate the Requirement to Use Selective Flatfish Trawl Shoreward of the RCA and North of 42 N. Latitude

C. Proposed Regulations for Vessel Operations

1. Eliminate the Prohibition on Multiple Types of Groundfish Trawl Gears Carried and Fished on the Same Trip

2. Eliminate the Prohibition on Bringing a New Haul Onboard Before All Catch From the Previous Haul Is Stowed

3. Eliminate the Prohibition on Fishing in Multiple IFQ Management Areas on the Same Tow

4. Summary of Potential Impacts From Proposed Regulations for Some Vessel Operations

III. Classification

IV. Description of Regulated Entities

V. Description of the Proposed Regulations

VI. Collection of Information Requirements

I. Background

Prior to 2011, the Pacific Coast Groundfish fishery was primarily managed with trip and landing limits and area closures and monitoring was limited (e.g., less than 25 percent of groundfish bottom and midwater trawl trip landings were subject to at-sea observer coverage). During that time, NMFS implemented trawl gear restrictions to both reduce groundfish and non-groundfish bycatch and discards, as well as limit access to overfished rockfish habitat. Restrictions included: (1) Minimum mesh size requirements; (2) requirements for chafing gear and cod-ends; (3) the trawl Rockfish Conservation Areas (RCA), which prohibits the use of groundfish bottom trawl gear between certain fathom lines defined in regulation at §§ 660.71 through 660.74; and, (4) a requirement that vessels use selective flatfish trawl, a type of small footrope trawl gear, shoreward of the trawl RCA and north of 40°10′ North (N) latitude.

In 2011, NMFS implemented Amendments 20 and 21 to the Pacific Coast Groundfish Fishery Management Plan (PCGFMP), which established the Trawl Rationalization Program. The Trawl Rationalization Program, a type of catch share program, replaced trip and landing limits with fixed allocations for limited entry trawl participants, through an individual fishing quota (IFQ) management system. To allow managers to accurately account for catch against IFQ, the program increased at-sea and shoreside monitoring to 100 percent of trips and landings for groundfish bottom and midwater trawl vessels. This management system, which increased individual vessel accountability, successfully reduced bycatch of target and non-target rockfish in the trawl fishery. Since implementation of the Trawl Rationalization Program, five of the seven previously overfished rockfish species are now rebuilt.

Building on the successes of the Trawl Rationalization Program at reducing discards, NMFS and the Pacific Fishery Management Council (Council) began working with industry members on several fishery management actions, known as Program Improvements or Enhancements (PIE) trailing actions. The PIE trailing actions included identifying regulations that limit the use and configuration of groundfish bottom and midwater trawl gears, and may no longer be necessary because the Trawl Rationalization Program effectively limits target and non-target species bycatch.

In March 2011, groundfish industry members, through the Council's Groundfish Advisory Sub-Panel (GAP), requested that the Council eliminate and revise various regulations related to mesh size and requirements to use four-seam trawl shoreward of the trawl RCA. To address the GAP's recommendations, the Council formed an ad hoc committee to identify specific regulations that, if revised or eliminated, would allow fishermen to increase the efficiency of their fishing strategy as the Council had intended when they recommended implementation of the Trawl Rationalization Program. The Council authorized the appointment of the new ad hoc committee, the Trawl Rationalization Regulatory Evaluation Committee (TRREC), at its April 2011 meeting.

The TRREC held a meeting during the summer of 2011. At the Council's November meeting that year, the TRREC recommended the Council consider, as part of the PIE trailing actions, revising regulations to: (1) Allow multiple gear (trawl gears and fixed gear) use and possession seaward and shoreward of the trawl RCA; (2) remove restrictions on chafing gear for midwater trawl gear; and, (3) eliminate codend, mesh size, and selective flatfish trawl gear requirements and restrictions. The TRREC prioritized these three measures over others, but also recommended the Council consider revising additional regulations they felt were unnecessary and costly, including the prohibition on fishing more than one individual fishing quota (IFQ) management area and the definitions of large and small footropes.

In March 2012, the Council adopted preliminary preferred alternatives for most of the gear measures under the PIE trailing actions; adopted its preferred alternative for chafing gear requirements for midwater trawl gear and put this action on a fast track for implementation; and, authorized a one-day public workshop of the Council's Enforcement Consultants (EC), GAP, and Groundfish Management Team (GMT) to discuss and make recommendations on the remaining gear related measures. Further discussion on gear measures were delayed until results of the gear workshop were presented to the Council.

The purpose of the gear workshop, which took place August 29-30, 2012, in Portland, Oregon, included scoping of various gear restriction measures that had been recommended to the Council by the TRREC and providing recommendations for how the Council can move forward. The gear workshop report was presented to the Council at its November 2012 meeting and made similar recommendations to those in the TRREC report, including (1) allowing the use of multiple gears (trawl and fixed gear) on the same trip; (2) a reduction in the minimum mesh size for groundfish bottom trawl gear; (3) eliminating the selective flatfish trawl gear requirement; and (4) allowing vessels in the IFQ Program to move fixed gear across management lines. Additionally, the report included a recommendation to allow year-round use of midwater gear within and outside the trawl RCA north of 40°10′ North (N) latitude.

The Council next took action on these measures in September 2015. At the time, the Council adopted the purpose and need statement, a rulemaking schedule, and the range of alternatives, along with some additional alternatives and measures suggested by the GAP. These new measures included changing how mesh size is defined so that regulations would allow for the enforcement of both knotted and knotless webbing; allowing vessels fishing under the Shorebased IFQ Program to fish across IFQ management lines; allowing whiting fishing with any type of trawl gear; allowing a tow to be brought onboard before previous catch is stowed; and, the option to further review and revise additional requirements in regulations at § 660.130 which provides trawl gear requirements and restrictions. After Council and NMFS staff reviewed that section of the regulations, further measures were added to the list of potential gear changes, including eliminating codend restrictions. Several other possible measures were not forwarded at the time due to potential for delays in implementation. The Council scheduled final action on the suite of measures for March 2016.

On March 3, 2016 (81 FR 11189), NMFS published a notice of intent (NOI) to prepare an environmental impact statement (EIS) to consider revisions to the regulations for groundfish bottom and midwater trawl gear used by vessels under the Trawl Rationalization Program. The Council conducted an additional scoping during its March 2016 meeting to gather public comments on the proposed regulations. Based on discussions at the meetings and public comments on the NOI, the Council selected their final preferred alternatives for all of the proposed measures at its March 2016 meeting, except the restriction on fishing across IFQ management lines. The Council delayed its decision on management lines, and selected its final preferred alternative at the June 2016 Council meeting. Detailed information, including the supporting documentation the Council considered at each meeting, is available at the Council's website, www.pcouncil.org.

After the Council selected final recommendations on the proposed measures in March and June 2016, NMFS completed extensive analyses on the measures, including an Endangered Species Act section 7 consultation on the impacts of the PCGFMP on listed salmon stocks. These analyses supported NMFS' determination that the impacts of implementing the proposed measures would likely not be significant and, therefore, there was no need to complete an EIS. Instead NMFS completed an integrated analysis that included an EA. On June 8, 2018, NMFS published a notice to withdraw preparation of the EIS (83 FR 26640). A copy of the draft EA and supporting documents are available from NMFS (see ADDRESSES).

II. Summary of the Proposed Regulations

If implemented, the proposed regulations would provide flexibility to groundfish bottom and midwater trawl vessels fishing under the Trawl Rationalization Program in how they may use and configure their gear, and operate on fishing trips. This flexibility is expected to foster innovation and allow for more optimal harvest operations for the groundfish fleet.

The Council deemed the proposed regulations consistent with and necessary to implement this action in an August 14, 2018, letter from Council Executive Director, Chuck Tracy, to Regional Administrator Barry Thom. Under the Magnuson-Stevens Fishery Conservation and Management Act (Magnuson-Stevens Act), NMFS is required to publish proposed rules for comment after preliminarily determining whether they are consistent with applicable law. We are seeking comment on the proposed regulations in this action and whether they are consistent with the PCGFMP, the Magnuson-Stevens Act and its National Standards, and other applicable law.

The discussion in this proposed rule and in the EA/RIR/RFA (See ADDRESSES) groups several related measures to reduce redundancy and to consider the collective impacts of similar proposed regulations. Through this action, the Council proposes to:

• Adjust a suite of restrictions related to how nets are configured, including eliminating minimum mesh size restrictions, changing the definition of mesh size, removing chafing gear placement restrictions, and removing restrictions on using double-walled codends from groundfish bottom and midwater trawl vessels fishing under the Trawl Rationalization Program;

• Remove the requirement to use selective flatfish trawl gear north of 40° 10′ N lat. and shoreward of the trawl RCA;

• Adjust a number of provisions related to vessel operations on a single fishing trip, including allowing vessels that fish in the Shorebased IFQ Program under the Trawl Rationalization Program to carry and fish groundfish bottom and midwater trawl gears on the same trip, fish across IFQ management lines, and bring a new haul on deck before the catch from a previous haul is stowed.

A. Proposed Regulations for Net Configurations

This section discusses the proposed regulations that would remove some minimum mesh size restrictions, revise the definition of mesh size, remove chafing gear placement restrictions, and remove the prohibition on using double-walled codends for groundfish bottom and midwater trawl vessels fishing under the Trawl Rationalization Program. These measures all relate to net configuration, and all affect the mesh size for trawl nets. Because changing any of these restrictions could result in similar impacts, the analysis supporting this proposed rule considers both the individual and collective impacts of all of the measures. Below is a short description of each of the proposed regulations followed by a summary of the potential impacts of each of these measures combined.

1. Eliminate Minimum Mesh Size Restriction

Mesh size is the opening between opposing knots in a fishing net, and minimum mesh size is the smallest distance allowed from the inside of one knot to the inside of the opposing knot. Currently, vessels fishing with groundfish trawl gear, including chafing gear, must use nets with a minimum mesh size greater than or equal to 4.5 inches (11.4 cm) for bottom trawl, and greater than or equal to 3.0 inches (7.6 cm) for midwater trawl gears. These regulations were first implemented in the 1990s to reduce fishing mortality for smaller fish, thus increasing survival to maturity. Increasing size selectivity through minimum mesh size restrictions was also expected to reduce bycatch of non-target species.

Midwater trawl gear must be constructed so that the first 20 feet (6.51 m) immediately behind the footrope or head-rope is constructed with bare ropes or mesh with a minimum size of 16 inches (40.64 cm). Also implemented in the 1990s, this restriction makes midwater trawl gear impractical or ineffective at capturing fish when in contact with the seafloor, which ensures that vessels do not make bottom contact with midwater trawl gear.

This action would remove both the 4.5 in (11.4 cm) minimum mesh size requirement for groundfish bottom trawl gear and the 3.0 in (7.6 cm) minimum mesh size requirement for midwater trawl. The Council did not recommend revising the current restriction on the minimum mesh size restriction for the first 20 feet (6.51 m) behind the footrope or head-rope for midwater trawl gears. This requirement is essential to the definition of midwater trawl gear.

Under the proposed regulations, it is not anticipated that groundfish bottom or midwater trawl vessel operators would significantly reduce their mesh size, throughout their codend, intermediate, and/or body of the trawl to create less selective fishing gear because this may increase the catch of undersized IFQ species or other unwanted species, decrease the efficiency of the trawl, and increase fuel consumption. Some groundfish bottom trawlers may use smaller meshes closer to the 3.0 in (7.6 cm) minimum allowed for midwater trawl to reduce gilling of species like widow rockfish and yellowtail rockfish. But there does not currently appear to be a need for midwater trawl vessel operators to reduce their minimum mesh size through their trawl gear lower than the requirement, even though they would be allowed to do so under the proposed regulatory changes, because the current 3.0 in (7.6 cm) minimum mesh size requirement is sufficient for preventing excessive gilling of midwater species (e.g., widow and yellowtail rockfish) while maintaining high catch rates.

The proposed regulations would likely provide vessel operators with the flexibility to configure their gear to enable efficient catch of target species, including the strategic use of smaller mesh sizes to facilitate the use or construction of excluder devices (e.g., flexible grates), the use of smaller meshes to herd or guide fish through the net and reduce gilling, and to reinforce the net where the excluder or guiding panels are attached to reduce wear on the net meshes.

2. Revise the Definition of Mesh Size

In addition to revising minimum mesh size restrictions for bottom and midwater trawl gear, this action updates the definition for measuring minimum mesh size to include knotless nets, as well as redefining the approach for measuring mesh size as the opening between opposing corners. These changes to the definition for mesh size are necessary because most vessels today use knotless trawl gear. Revising the definition of mesh size would allow NMFS Office of Law Enforcement (OLE) to enforce current mesh size requirements for nets that do not have knots. Additionally, removing the minimum mesh size requirements would reduce minor enforcement violations that occur when net shrinkage reduces mesh size below legal limits.

Even if the minimum mesh size requirement is eliminated, as discussed under Section A.1. above, this revision to the definition of mesh size would still be necessary because vessels using midwater trawl nets will still be required to adhere to minimum mesh size requirements for the first 20 feet (6.51 m) behind the footrope or head-rope.

3. Eliminate the Prohibition on Double-Walled Codends

The current groundfish regulations prohibit double-walled codends on any trawl gear, and prohibits vessel operators from outfitting nets with chafing gear to effectively create a double-walled codend. Double-walled codend is defined in regulation as a codend constructed of two walls or layers of webbing. The prohibition was originally implemented in 1992 to prevent vessel operators from using double-walled codends to effectively reduce their mesh size below the minimum size requirements, which would have prevented undersized species from escaping the net, and resulted in more discards.

The Council recommended and NMFS proposes eliminating the restrictions that prohibit groundfish bottom and midwater trawl vessels from using double-walled codends. This proposed regulations could provide flexibility necessary to reinforce webbing in certain areas of the trawl net that could facilitate escapement of fish through escape panels (e.g., reinforced webbing to attach ramps, funnels, or other selective devices to codend or intermediate meshes) and to prevent abrasion of the net from various trawl components, such as restraining straps. This revision could also result in escapement of smaller fish by reducing the effective mesh size of the codend and herd fish through the net, and increase net protection by “armoring” the trawl.

4. Eliminate Restrictions on the Use of Chafing Gear

The November 2011 TRREC report also suggested eliminating restrictions on the use of chafing gear. The groundfish regulations define chafing gear as a webbing or other material that attaches to the codend to protect trawl nets from wear and damage from bottom contact and contact with the vessels during net retrieval. Regulations implemented in the 1990s required chafing gear with large meshes be fastened to allow escapement of small fish through mesh openings (57 FR 12212, April 9, 1992). These regulations were intended to prevent vessel operators from using chafing gear to create double-walled codends or effectively reducing the mesh size below the minimum mesh size restrictions. Over the past 30 years, NMFS implemented several proposed regulations to expand the use of chafing gear to protect trawl nets to better align with regulations off Alaska.

The current regulations allow vessels to configure chafing gear to encircle no more than 50 percent of a bottom trawl net's circumference. Chafing gear on bottom trawls may be used only on the last 50 meshes, issued from the terminal (closed) end of the codend. Only the front edge (edge closest to the open end of the codend) and sides of each section of chafing gear may be attached to the codend. With the exception of the corners, the terminal edge (edge closest to the closed end of the codend) of each section of chafing gear must not be attached to the net. Chafing gear must be attached outside any riblines and restraining straps.

For midwater trawl, current regulations allow that chafing gear may cover the bottom and sides of the codend in either one or more sections. Only the front edge (edge closest to the open end of the codend) and sides of each section of chafing gear may be attached to the codend; except at the corners, the terminal edge (edge closest to the closed end of the codend) of each section of chafing gear must not be attached to the net. Chafing gear is not permitted on the top codend panel on midwater trawl gear except for a band of mesh (a “skirt”) may encircle the net under or over transfer cables, lifting or splitting straps (chokers), riblines, and restraining straps, but must be the same mesh size and coincide knot-to-knot with the net to which it is attached and be no wider than 16 meshes.

NMFS proposes removing all restrictions in regulations on the use of chafing gear for groundfish bottom trawl and midwater trawl gear. Removing these restrictions would allow vessel operator flexibility in how they use chafing gear to protect nets and codends and how they fish relative to the seafloor. It is anticipated that under the proposed regulations, vessel operators would use chafing gear strategically to provide protection in areas where the net can be susceptible to wear. This will allow vessels to extend the life of their nets and ultimately reduce operational costs.

It is not anticipated that vessel operators would attach large sections of chafing gear to these additional sections for added net protection, because doing so would increase the drag on the net, which could increase fuel consumption and reduce fishing efficiency. In addition, it would likely provide no additional protection from bottom contact, because the top of the net and tapered portion of the net in front of the codend rarely contact the seabed. Wear patterns on midwater trawl nets indicate that when bottom contact occurs, it typically occurs at the very end of the codend, which can already be protected by chafing gear under the current regulations. The ability of vessels to fish in more rocky habitat has more to do with the size of the footrope than the chafing gear protections, and vessels operators would still be required to abide by the small footrope requirement shoreward of the trawl RCA. Therefore, limiting their ability to fish in high relief areas regardless of chafing gear requirements.

This change is not expected to result in increased catch of undersized or non-target fish. Attaching more chafing gear than necessary to protect the net could also limit the flow within the net, which is needed to allow for adequate escapement of undersized fish, if meshes are blocked. Researchers have also shown there is no detectable difference in selectivity between codends with and without top-side chafing gear if the chafing gear consists of larger meshes than the codend mesh size (e.g., 2 times larger) and if the chafing gear is attached to the codend loosely (i.e., to allow space between the top-side chafing gear and the codend meshes). For those species that escape through the top meshes of codends and intermediates, properly hung top-side chafing gear with large meshes may not block or mask codend meshes and therefore may not measurably impede escapement.

This change is not expected to substantially alter gear contact with the bottom. Numerous disincentives already exist for midwater vessel operators to fish close to the substrate. These disincentives include: (a) Risk of damage to the net from snagging or hanging on hard bottom would not be lessened by increases in chafing gear coverage; (b) reduced gear efficiency and increased operating costs when bottom contact occurs; and (c) bare footropes, sweeps, and 16 in (40.64 cm) mesh size restriction for the first 20 ft (6.1 m) on the front of the net make the gear impractical or ineffective for fishing hard on the bottom (soft or hard bottom).

5. Summary of Potential Impacts From Proposed Regulations for Net Configuration

Eliminating restrictions on groundfish bottom and midwater trawl net configuration would allow vessels to experiment with different mesh sizes, chafing gear placement, and use of double-walled codends. Each of these proposed regulations individually, and collectively, could result in potential negative impacts to the physical and biological environments. However, in most instances, these impacts are mitigated through incentives and disincentives built into the Trawl Rationalization Program. Additionally, many of the proposed regulations would have a positive impact on harvesters, processors, and the communities they support.

Proposed regulations which could result in a reduction in mesh sizes used and increased net protections could increase bottom trawl effort targeting semi-pelagic rockfish species or longspine thornyhead, and therefore result in some redistribution of effort or a shift of effort to deeper waters. These shifts in effort are not anticipated to result in additional impacts to the physical environment beyond what already occurs under the current regulations. The proposed regulations do not open any new areas to trawling. Any redistribution of effort would not be expected to impact any new habitats which are not already fished with trawl gear. Other restrictions on net configurations, such as the small-footrope requirement shoreward of the trawl RCA, haven been shown to be very effective in limiting effort in high relief areas. Vessel operators would still be at risk of damage to their nets and hang-ups from entering into high relief habitats, even with the ability to provide additional chafing gear or codend protections, which do not provide any protection to the ropes.

Increasing net protections which result in extensively armoring the trawl and reducing mesh sizes is also unlikely for many reasons, including: (a) Increased drag and decreased flow; (b) increased expense while hauling due to increased fuel consumption; (c) increased expense to purchase smaller mesh, additional chafing gear, and double-walled nets; and (d) increased retention of undersized and unmarketable fish. It is important to note that increased drag may not only increase fuel consumption, but also may reduce fishing efficiency, such as reducing door spread of the trawl net.

If vessels make mesh size, chafing gear, or double-walled codend changes throughout the codend and/or intermediate net in a manner that reduces trawl gear selectivity, then catches of undersized or unwanted groundfish could increase. However, the Trawl Rationalization Program creates a strong disincentive for vessel operators to avoid the catch of undersized, unmarketable groundfish. Catching more small fish is not economically advantageous to vessel operators. Although most undersized fish are unmarketable, vessels operators must still account for the catching of undersized fish with individual quota pounds. Vessel operators must debit each pound of unmarketable, undersized fish caught from their total allocation for that species, which means they must forgo the opportunity to use their allocation for marketable catch. For this reason, catching unmarketable, undersized fish has the potential to reduce vessel revenue, as well as add sorting time (workload), for the vessel's crew and processor's employees.

Revisions to the restrictions on net configurations could have a positive impact on harvesters by allowing vessel operators to configure their nets in the most efficient way possible, including the opportunity to experiment with excluders and various combinations of mesh size and mesh shape (square or T-90 mesh) that could reduce bycatch while simultaneously improving the sustainability of the fishery and increasing the likelihood of attainment. Vessel operators have repeatedly testified to the Council that they desire more flexibility to experiment with trawl gear to reduce catch of unwanted species and increase catch of marketable fish. This may ultimately result in improved quality and consistency of product to first receivers and processors over time. Vessel operators would also benefit from the reduced complexity of the regulations by removing additional restrictions that they were subject to previously. This could save time and effort for vessel operators and ultimately reduce operational costs as vessel operators would no longer need to ensure compliance with these regulations.

Eliminating restrictions on mesh size will also likely reduce enforcement costs. Although enforcement of the remaining mesh size restriction on midwater trawl gear would still be required, enforcement of the other restrictions would be removed.

B. Eliminate the Requirement To Use Selective Flatfish Trawl Shoreward of the RCA and North of 42 N Latitude

Selective flatfish trawl is a type of small footrope trawl developed to maintain a nearshore flatfish trawl fishery while reducing the non-target catch of canary rockfish and other overfished rockfish species. The selective flatfish trawl features a headrope set back from a flattened net body to capture low-swimming flatfish while allowing rockfish, particularly canary rockfish, to escape over the upper edge of the trawl net. Along with the elimination of the codend, chafing gear, and mesh size provisions, the 2011 TRREC report suggested the Council consider eliminating the selective flatfish trawl gear requirement and replace them with a small footrope requirement, as well as revising the definition of selective flatfish trawl to allow for four-seam nets. Similar to the adjustments discussed above in Section A., the TRREC pointed to the Trawl Rationalization Program to support this regulatory change.

The current regulations define selective flatfish trawl as a two-seamed net with no more than two riblines, excluding the codend. The breastline may not be longer than 3 feet (0.92 m). There may be no floats along the center third of the headrope or attached to the top panel except on the riblines. The footrope must be less than 105 feet (32.26 m). The headrope must be no less than 30 percent longer than the footrope. The headrope is issued along the length of the headrope from the outside edge to the opposite outside edge.

Since 2005, the groundfish regulations have required the use of selective flatfish trawl gear shoreward of the trawl RCA north of 40°10′ N latitude. The regulations further prohibit vessels fishing north of 40°10′ N latitude from having small footrope trawl gear on board, other than selective flatfish trawl gear, while fishing shoreward of the trawl RCA. Vessels are allowed, but not required, to use selective flatfish trawl gear shoreward of the trawl RCA south of 40°10′ N latitude, and seaward of the trawl RCA coastwide.

This rule proposes revising the definition of selective flatfish trawl gear to allow either a two-seam or a four-seam net with up to four riblines, while retaining all the other existing restrictions related to the configuration of this gear. In addition, the Council proposed eliminating the requirement that vessels use selective flatfish trawl gear shoreward of the trawl RCA north of 40°10′ N latitude. Instead, groundfish bottom trawl vessels would be allowed to use any small footrope trawl gear shoreward of the trawl RCA north and south of 40°10′ N latitude. Large footrope trawl gear would still be prohibited in this area.

Revising the definition of selective flatfish trawl to allow for a four-seam net could potentially provide for better flow and improved selectivity compared to a two-seam net. A four-seam net has more open meshes for smaller fish to escape. In addition, studies have demonstrated that improved flow within nets improves fishing efficiency, which may increase catch of marketable target and non-target groundfish (e.g., widow rockfish, yellowtail rockfish, and Pacific cod), and reduce bycatch of small or unmarketable groundfish (e.g., undersized redstripe rockfish, rosethorn rockfish, sand dabs).

Eliminating the requirement to use selective flatfish trawl gear north of 40°10′ N. latitude could result in a shift in bottom trawl effort shoreward of the trawl RCA north of 40°10′ N. latitude and increased catch of selected pelagic or semi-pelagic groundfish species (e.g., widow and canary rockfish) over the continental shelf. The shift in fishing effort away from the area seaward of the trawl RCA, is most likely to occur prior to May 15th when midwater trawling is prohibited. Any increased catch would be expected to remain within the current annual catch limits for target and non-target groundfish, and non-groundfish stocks. Furthermore, increased efficiency (e.g., more open meshes due to use of four-seam trawl, improved flow, catch of larger rockfish and roundfish, and improved function of selective devices) may lead to some reduction in overall bottom trawling effort, an increase catch of larger marketable fish, and a decrease catch of small unwanted species.

During development of the proposed action for the 2017 Salmon Biological Opinion, the Council considered several analyses that discussed the potential impacts that the future fishery, including possible impacts from the elimination of the selective flatfish trawl gear requirement, may have on the incidental take of Chinook salmon in the Pacific Coast's groundfish trawl fishery. NMFS presented an analysis at the April 2017 Council meeting, under the 2017 Salmon Biological Opinion agenda item, that suggested that removal of this requirement could dramatically increase the incidental take of Chinook salmon north of 40°10′ N. latitude. At the time, the data that were used suggested this gear requirement is driving the differences in bycatch rates. However, that analysis acknowledged numerous caveats associated with comparing bycatch rates between different periods of time (i.e. now vs. 20 years ago) and uncertainty as to how this information could be applied to today's fishery.

To gather data about the potential impacts of changing the existing selective flatfish trawl gear requirement for today's fishery, NMFS issued two EFPs for the 2017 and 2018 groundfish fishing years that, among other measures, exempted vessels from the selective flatfish trawl gear requirement. At its March 2017 and March 2018 meetings, during development of the 2017 and 2018 Trawl Gear EFPs, the Council twice considered and rejected including the area shoreward of the trawl RCA between 42° N latitude and 40°10′ N latitude in the exemption to the selective flatfish trawl gear requirement due to concerns over potential impacts to Chinook salmon. NMFS ultimately permitted more than 40 vessels to participate in the two EFPs. These vessels have completed more than 200 EFP trips. Based on the analysis of this new information, changes that have occurred within the fishery over the past several year, and the analysis in the December 2017 biological opinion, NMFS has determined that Chinook salmon bycatch is unlikely to increase in the area north of 42° N latitude (the southern boundary of the 2017 and 2018 Trawl Gear EFPs) on a scale shown in the report NMFS presented April 2017.

Potential impacts to Chinook salmon in the area between 42° N latitude and 40°10′ N latitude are less certain. The December 2017 biological opinion on salmon bycatch in the Pacific Coast Groundfish Fishery discussed that significant uncertainty exists in the magnitude of impacts, especially the species-level impacts, for fisheries in locations or time periods outside the available data. Areas south of 42° N latitude, particularly between January and early May (outside the Pacific primary whiting season), have particularly limited information because most fishing tends to take place north of 42° N latitude due to other restrictions (i.e. federal prohibition on whiting processing south of 42° N lat.).

In addition to concerns about the uncertainty in Chinook salmon bycatch in the groundfish fishery in the area between 42° N. latitude and 40°10′ N latitude, NMFS has made the preliminary determination that the proposed changes to the selective flatfish trawl gear requirement shoreward of the trawl RCA between 42° N latitude and 40°10′ N latitude may be out of compliance with the terms and conditions of the December 2017 Salmon Incidental Take Statement. Term and Condition 4b requires that “prior to allowing additional non-whiting trawling south 42° N latitude, NMFS will implement one or more EFPs designed to collect information about Chinook and coho bycatch levels and stock composition from fishing in those areas or at those times for a minimum of three years.”

Based on these concerns and the information presented at the Council meetings and while developing this rule, NMFS is specifically asking for public comment on the elimination of the requirement to use selective flatfish trawl gear in the area between 42° N latitude and 40°10′ N latitude.

C. Proposed Regulations for Vessel Operations

This section discusses the three proposed regulations that relate to vessel operations on a single fishing trip, including allowing vessels that fish in the Shorebased IFQ Program under the Trawl Rationalization Program to carry and fish groundfish bottom and midwater trawl gears on the same trip, fish across IFQ management lines, and bring a new haul on deck before the catch from a previous haul is stowed. These three measures are discussed together because they could have similar impacts on vessel operations and catch accounting. Below is a short description of each of the proposed regulations followed by a summary of the potential impacts of each of these measures combined.

1. Eliminate the Prohibition on Multiple Types of Groundfish Trawl Gears Carried and Fished on the Same Trip

The GMT suggested the use of multiple fishing gears on a single trip under the Shorebased IFQ Program to the Council at its November 2011 meeting. The current restrictions on the use of multiple fishing gears during a single trip under the IFQ Program are complex, with different sections of the regulations allowing vessels to carry different gear combinations in different parts of the EEZ. For example, the regulations prohibit vessels from using multiple types of bottom trawl gear during a single trip when fishing seaward or shoreward of the trawl RCA south of 40°10′ N latitude. However, the regulations do not include a similar prohibition for the area north of 40°10′ N latitude, where vessels may fish with multiple types of trawl gear seaward of the trawl RCA. The GMT suggested that simplifying the regulations to allow vessels to carry and fish with multiple types of gear on the same trip could improve economic efficiency and improve safety at sea by reducing the number of trips and days at sea.

Regulations define the following trawl gear types: Large footrope trawl, small footrope trawl, selective flatfish trawl, and midwater trawl. North of 40°10′ N latitude, a vessel may not have both groundfish trawl gear and non-groundfish trawl gear on board simultaneously, or have multiple trawl gear types (groundfish bottom or midwater trawl gear) on board simultaneously. A vessel may, however, have more than one type of limited entry bottom trawl gear on board (selective flatfish trawl or small footrope trawl gear), either simultaneously or successively, during a trip limit period, with one exception. Only a selective flatfish trawl is allowed onboard when fishing shoreward of the trawl RCA (§ 660.130(c)(2)). Finally, a vessel may have more than one type of midwater groundfish trawl gear on board, either simultaneously or successively, during a cumulative period. South of 40°10′ N latitude, a vessel may not have both groundfish trawl gear and non-groundfish trawl gear on board simultaneously, may not have both bottom trawl gear and midwater trawl gear on board simultaneously, and may not have small footrope trawl gear and any other type of bottom trawl gear on board simultaneously.

Limited entry trawl vessels were allowed to fish with multiple trawl gears during the same trip prior to the development of the trawl RCA. To ensure that bottom trawl gear was not used within trawl RCA, a new regulation was published in 2003 to allow no more than one type of trawl gear on board during a single fishing trip (68 FR 907, January 7, 2003). Regulations requiring vessel monitoring systems (VMS), paired with vessel declarations, became effective on January 1, 2004, to ensure adequate monitoring and to enforce these new gear-specific area restrictions (68 FR 62375, November 4, 2003). Additional monitoring requirements implemented through the Trawl Rationalization Program and changes to when a declaration can be made, proposed through this rule, have made the prohibition unnecessary to achieve its original purpose.

The Council recommended and NMFS proposes eliminating the prohibition on vessels carrying both groundfish bottom trawl gear and midwater trawl gear onboard simultaneously while fishing under the Shorebased IFQ Program north of 40°10′ N latitude, or south of 40°10′ N latitude. Additionally, the rule proposes eliminating the prohibition on having bottom trawl gear, other than selective flatfish trawl gear, on board shoreward of the RCA and north of 40°10′ N latitude. Instead, vessels would be allowed to have any type of bottom trawl (small/large footrope or selective flatfish trawl) and midwater trawl gear on board simultaneously and would be allowed to fish any of these trawl gears during a single trip as long as the appropriate declaration is made when gears are changed. Vessels would be required to keep and land all catch separately by gear type, and catch would be reported on electronic fish tickets by gear type. This rule would not adjust the current provision that requires vessels to stow any gear not authorized for use in the area when transiting through a groundfish conservation area. For species managed with trip limits, crossover provisions, and gear-specific trip limits, all current regulations would remain in effect.

This rule would also modify recordkeeping and reporting requirements for vessels fishing in the Shorebased IFQ Program who choose to use more than one type of groundfish trawl gear on the same trip. These vessels would be required to make a new gear declaration from sea to indicate that they have chosen to fish with a new gear type (i.e., groundfish bottom trawl vs. midwater trawl). Currently, the regulations only allow vessels to declare one type of trawl gear at a time when fishing in the Trawl Rationalization Program. Vessel operators must declare a gear type for a trip prior to leaving port. Therefore, under the current regulations, after a vessel operator has submitted a gear declaration report to NMFS, the vessel cannot change activities, including fishing with any gear other than the gear type that the vessel declared at the start of the trip, until the vessel returns to port and offloads all fish. The proposed regulations would allow vessels operators in the Shorebased IFQ Program who choose to use multiple groundfish trawl gears on the same trip to adjust their trip declarations from sea. Vessel operators would need to make a declaration any time they switched to a gear other than the gear that was declared at the start of the fishing trip, to continued enforcement of closed areas, but they would not be required to return to port to make the new declaration.

Allowing the use of multiple IFQ trawl gears on the same trip could potentially reduce the time at sea, further reducing daily fuel and observer coverage costs. It would also allow greater flexibility for harvesters while at sea when choosing how best to use quota pounds. For instance, vessels could choose to avoid using bottom trawl gear when that gear might result in high catch of prohibited species. Instead they could switch their gear type, and fishing strategy, to target non-whiting midwater species complexes in the same area, which may have reduced interactions with prohibited species, by changing to another trawl gear type. Alternatively, a vessel could choose to target more abundant bottom trawl species on the same trip if it finds targeting non-whiting midwater species to be less profitable or carry increased risk of encountering non-target catch.

Allowing groundfish bottom and midwater trawl gear to be fished on the same trip could have some limited indirect effects on stock assessments for target and non-target species. Because it is impossible for observers and vessels using electronic monitoring to monitor the hold once the catch is stored, there is the potential that removing the prohibition on multiple types of trawl gear could reduce the quality of stock assessments and economic analysis to some extent if the catch mingles and is recorded incorrectly.

2. Eliminate the Prohibition on Bringing a New Haul Onboard Before All Catch From the Previous Haul Is Stowed

The proposed elimination of the prohibition on bringing a new haul on board before all catch from a previous haul had been stowed first came to the Council from the GAP at the Council's November 2015 during discussions of the range of alternatives for the trawl gear changes package. Under current regulations, vessels fishing in the Shorebased IFQ Program are prohibited from bringing a new haul on board the deck until all catch from the previous haul has been stowed. Catch cannot be stowed until all protocols under the Electronic Monitoring Program or the West Coast Groundfish Observer Program (WCGOP) have been completed. Additionally, the regulations require vessels to stow all catch from a haul before the new haul is brought onboard. These requirements were added to the regulations in 2011, through implementation of the Trawl Rationalization Program, to aid observers in carrying out their duties.

This rule proposes eliminating the existing prohibition on bringing a haul on board before the previous haul has been stowed, and the requirement to stow all catch before catch from a new haul is brought on board. However, vessels would be required to keep separate catch from separate hauls until the observer could complete the haul-specific collection of catch for sampling. Vessels fishing with electronic monitoring would be required to keep catch from different hauls separate on deck until fully documented according to protocols established in the specific vessel's monitoring plan. All vessels would still be required to land any catch that was caught using different gears separated by gear type.

Eliminating this prohibition could provide some limited benefit to the vessels. Completely sorting and stowing catch from a haul in the trawl fishery can take several hours. There have been some instances when the onboard observer may not require all catch to be removed from deck and stowed to successfully complete sampling duties. As long as catch from different hauls does not mingle, the vessel operator could bring a second haul onboard while the observer is completing their duties.

Eliminating the prohibition on bringing a new haul on board could have some potential negative effects on observers if this causes vessel operators to pressure observers to complete their duties more quickly so a new haul could be brought onboard. Degraded observer data could result in indirect impacts on stocks if stock data is affected. The current regulations require that the observers are provided reasonable assistance to complete all duties, including providing adequate time and space to do so. These regulations would still be enforced if the prohibition on bringing a new haul onboard is eliminated.

3. Eliminate the Prohibition on Fishing in Multiple IFQ Management Areas on the Same Tow

There are currently four IFQ management areas in the regulations that are based on the stock information for select species, harvest allocations, and the corresponding quota shares for species. The IFQ management areas include:

• The area between the U.S./Canada border and 40°10′ N latitude

• The area between 40°10′ N latitude and 36° N latitude

• The area between 36° N latitude and 34°27′ N latitude

• The area between 34°27′ N latitude and the U.S./Mexico border.

The Council created these areas as part of the Trawl Rationalization Program to allow for different management measures for species or species groups in different IFQ management areas. Several IFQ species are tracked either as a single species with different quota share by area, or as a single species in one area and as a component of an assemblage in another area (e.g., minor shelf or slope complex north or south of 40°10′ N latitude). To address differences in management measures for species or species complexes among IFQ management areas, vessels have been prohibited from fishing in different IFQ management areas during the same fishing trip.

As mentioned previously, the Council held a workshop in Portland, Oregon on August 29 and 30, 2012. The result of that workshop was a list of recommendations to the Council at its November 2012 meeting. One of those recommendations included the elimination of the prohibition on fishing across management lines for vessels fishing under the Shorebased IFQ Program. Instead, participants suggested allowing vessels to move across IFQ management lines on a single tow.

This rule proposes eliminating the prohibition on fishing in multiple IFQ management areas on the same trip for vessels fishing in the Shorebased IFQ Program. These vessels would be allowed to fish in multiple IFQ management areas on the same trip and the same haul. If retaining catch from multiple IFQ management areas, catch would not need to be sorted by area. Catch from multiple IFQ management areas would be recorded on the same ticket.

Based on recommendations from industry, this rule also proposes to allow vessels to fish across management lines in the same tow. Catch from vessels fishing across management lines would be assigned to an area and quota pounds would be deducted from vessel accounts based on the proportion of hauls in a given management area. For example, if six hauls were taken in one IFQ management area, and two hauls were taken in another management area, the total catch would be apportioned to management areas by a 6 to 2 ratio.

The proposed regulations would improve flexibility for vessels when selecting their harvest strategies to best utilize their available IFQ. Vessels that operate near a management line would most likely benefit the most from reduced operational costs by not having to haul back gear and reset to start a new haul on the other side of the management area boundary line. Vessel towing across lines could reduce the number of hauls and therefore fuel costs and time at sea.

The proposed regulations do increase the catch accounting complexity and could potentially reduce the accuracy of catch reporting. NMFS would need to accurately track the number of hauls in a given area and apply this estimation to total catch landing weight to determine the pro-rata assignment. Additionally, the combination of allowing multiple trawl gears onboard and fishing in multiple management areas creates more complexity to managers in assigning catches.

4. Summary of Potential Impacts From Proposed Regulations for Some Vessel Operations

The proposed regulations would change how vessels in the Shorebased IFQ Program may operate as they would be allowed to tow across IFQ management areas, carry and fish with groundfish bottom and midwater trawl gear, and bring a new haul on board before the previous haul has been stowed. The effect of eliminating these prohibitions is most directly felt by harvesters who would have more flexibility in how they operate their vessels. The proposed regulations are unlikely to increase fishing effort (i.e. number of trips) or cause a significant shift in fishing behavior. However, vessels may change where they fish, and would be expected to be more efficient in their fishing practices, which could ultimately increase effort (i.e. catch/hour). These impacts are expected to be minimal as most vessels will likely not choose to carry and fish multiple gears on every trip. Additional impacts to the physical environment caused by the proposed regulations are not anticipated because these provisions do not open any new areas to fishing, and vessels will still be required to abide by all groundfish conservation areas. Direct impacts to the biological environment are not expected from these measures. Vessels in the Shorebased IFQ Program are required to cover all catch with quota pounds. Net configurations would not be affected by these proposed regulations.

Vessel operators are expected to use the flexibility to create an efficient fishing strategy that best limits bycatch of non-target and protected species while still maximizing catch of their target species. Vessels would maximize attainment of IFQ by carrying and fishing with both midwater and groundfish bottom trawl gear on the same trip. According to vessel operators, trawl vessels average between 10 and 20 days spent annually traveling back and forth to port to change gear types. If vessels in the Shorebased IFQ Program had less restrictions on how they operate their vessels, including carrying multiple types of trawl gear onboard, vessel operators may be able to eliminate most days spent traveling back and forth to port to change gears resulting in financial savings. For example, the mean fixed operational costs for non-whiting trawl vessels in the Trawl Rationalization Program is just over $5,000 per day. If these vessels were to eliminate 10-20 days which had been previously used to transit back and forth to port, then that would be a savings of between $50,000 and $100,000 per vessel per year.

Vessel operators would also likely create efficiencies and save money if fishing near an IFQ management line. A vessel operator would not have to haul back gear and reset to start a new haul in a new management area. Vessel towing across IFQ management lines could reduce the number of hauls and therefore the amount of fuel spent trawling and maneuvering the vessel to optimize harvest, potentially increasing attainment for the few vessels that are currently hampered by their inability to cross management lines.

Eliminating regulations that manage vessel operations could also have some potential negative impacts to processors, observers, and managers. Due to the complexity of the sorting options for vessels fishing across IFQ management lines, processors could have difficulty handling deliveries, as the number of hauls in each area would need to be tracked and reported on fish tickets. Additional catch accounting complexity would also result from needing to track the number of hauls by management area. Vessels using multiple groundfish trawl gears on a single trip would need to keep all catch separated by gear type. However, as there are no monitors or cameras below deck, it would be impossible for shoreside monitors, first receivers, vessel operators, or observers to ensure that catch has been kept separate.

A vessel observer's ability to process samples would be the limiting factor for increased efficiency on vessels where an operator would like to bring a new haul onboard before the previous haul has been stowed. Catch from hauls caught by the same gear could not be mixed until the observer had taken all the necessary samples. Therefore, additional pressure on the observer to do their work quickly may result. This pressure could cause mistakes and ultimately degrade data quality. Maintaining restrictions on pressuring observers or catch monitors would ensure continued accurate monitoring and reporting of catch, and help maintain quality catch at sea and landing data used to manage the fishery in season and for stock assessments used to develop catch limits and harvest guidelines.

III. Classification

Pursuant to section 304(b)(1)(A) of the Magnuson-Stevens Act, the NMFS Assistant Administrator has made a preliminary determination that this proposed rule is consistent with the Pacific Coast Groundfish FMP, other provisions of the Magnuson-Stevens Act, and other applicable law. In making the final determination, NMFS will consider the data, views, and comments received during the public comment period. NMFS also prepared an environmental assessment (EA) for this action. Copies of the draft EA and other supporting documentation is available from NMFS (see ADDRESSES) or visit NMFS's website at http://www.westcoast.fisheries.noaa.gov/fisheries/groundfish_catch_shares/rules_regulations/trawl_regulations_compliance_guides.html.

The Office of Management and Budget has determined that this proposed rule is not significant for purposes of Executive Order 12866.

This proposed rule does not contain policies with Federalism or “takings” implications as those terms are defined in E.O. 13132 and E.O. 12630, respectively.

The Chief Counsel for Regulation of the Department of Commerce certified to the Chief Counsel for Advocacy of the Small Business Administration that this proposed rule, if adopted, would not have a significant economic impact on a substantial number of small entities.

The proposed regulations for groundfish bottom trawl and midwater trawl gear would directly affect vessels fishing under the Pacific Coast Groundfish Fishery's Trawl Rationalization Program. Eliminating restrictions on mesh size, chafing gear, and codend will allow vessels to experiment with different mesh sizes and net coverings, which could help reduce fishing operational costs and days on sea. Removing the requirement to use selective flatfish trawl gear and revising the definition to allow for four-seam nets will allow vessel operators to target recently rebuilt overfished stocks, such as widow and yellowtail rockfishes. Allowing vessels that fish in the Shorebased IFQ Program, a component of the Trawl Rationalization Program, to carry and fish with multiple groundfish trawl gears, fish across management lines, and bring a new haul onboard the vessel before the previous haul is stowed could help improve the efficiency of fishing practices. Vessels would not be required to return to port to change gears or haul back to move and reset on the other side of an IFQ management line. Vessels could spend less time at sea, which would reduce fuel and observer costs. Our analysis of the likely economic impacts of this action predicts that these regulatory changes will have positive impacts on fishing vessels, seafood processors, and fishing communities.

IV. Description of Regulated Entities

For the purposes of our Regulatory Flexibility Act (RFA) analysis, the proposed action is expected to affect entities that both process and harvest groundfish under the Trawl Rationalization Program. The U.S. Small Business Association (SBA) established criteria for business in the fishery sector to qualify as small entities. Under that standard, two small processing entities, each of which owns one groundfish permit, would be regulated by the proposed rule. Seven large entities, which own 30 groundfish permits, would be regulated by the proposed rule.

For RFA purposes only, NMFS established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide. The determination as to whether the entity is large or small is based on the average annual revenue for the 3 years from 2013 through 2015. Limited entry groundfish vessels are required to self-report size across all affiliated entities. Of the businesses who earn the majority of their revenue from commercial fishing, one self-reported as large. This entity owns four groundfish permits. The remaining 117 entities primarily involved in seafood harvest self-identified as small, and own 139 permits.

A total of 113 vessels harvested groundfish in the Trawl Rationalization at some point and would potentially benefit from some or all of the flexibility offered in the proposed rule. However, this number of entities represents the maximum number of affected entities. Not all permit owners choose to fish each season, therefore, not all 113 vessels would benefit from this action each year. Only those vessels which are active vessels are the most likely to benefit and be directly impacted by regulations.

V. Description of the Proposed Regulations

The proposed regulations would eliminate and revise regulations that govern the use and configuration of groundfish bottom and midwater trawl gear fished under the Pacific Coast Groundfish Fishery's Trawl Rationalization Program. The specific revisions would eliminate the minimum mesh size requirement for groundfish bottom trawl and midwater trawl gear; the prohibition on the use of double-walled cod-ends; restrictions on where and how chafing gear can be attached to the trawl net; the requirement to use selective flatfish trawl gear shoreward of the trawl RCA; the prohibition on carrying and using multiple types of groundfish trawl gear (bottom trawl and midwater trawl) on the same trip; the prohibition on fishing across individual fishing quota management lines on the same haul; and the prohibition on bringing a new haul onboard before all catch from the previous haul has been stowed.

VI. Collection of Information Requirements

This action contains a change to an information collection requirement, which has been approved by the Office of Management and Budget (OMB) under OMB Control Number 0648-0573: Expanded Vessel Monitoring System Requirement for the Pacific Groundfish Fishery. The proposed regulatory change, which is described above in section C.1 of the preamble, would allow vessel operators who fish in the Shorebased IFQ Program to make a new declaration from sea when a new gear fished on a trip. This revision would remove the requirement that vessels return to port to make a new declaration. The numbers of declaration reports the vessel operator is required to submit to NMFS would not change under this request. Therefore, no small entity would be subject to additional reporting requirements.

Overall, the proposed regulations are expected to have a positive economic effect on small entities. The elimination of these regulations would alleviate some restrictions on how vessels fishing in the Trawl Rationalization may use and configure their gear. Eliminating regulations that may be constraining on industry members and are no longer needed due to the new management system is likely to generate additional groundfish gross revenues as vessels are able to obtain more of their quota and reducing their fishing operational costs. Allowing vessels more flexibility to configure their gear will also allow vessel operators to innovate and adapt to an ever changing environment.

This action is not expected to have a significant economic impact on a substantial number of small entities. The effects on the regulated small entities identified in this analysis are expected to be positive. Under the proposed action, small entities would not be placed at a competitive disadvantage relative to large entities, and the regulations would not reduce the profits for any small entities. As a result, an initial regulatory flexibility analysis is not required, and none has been prepared.

List of Subjects in 50 CFR Part 660

Fisheries, Fishing, and Indian Fisheries.

Dated: August 31, 2018.
Samuel D. Rauch III,
Deputy Assistant Administrator for Regulatory Programs, National Marine Fisheries Service.

For the reasons set out in the preamble, 50 CFR part 660 is proposed to be amended as follows:

PART 660--FISHERIES OFF WEST COAST STATES

1. The authority citation for part 660 continues to read as follows:

Authority: 16 U.S.C. 1801 et seq., 16 U.S.C. 773 et seq., and 16 U.S.C. 7001 et seq.

2. In § 660.11, amend the definition of “Fishing gear” by revising paragraphs (7) and (11)(iii)(B) to read as follows:

§ 660.11 General definitions.

* * * * *

Fishing gear includes the following types of gear and equipment:

* * * * *

(7) Mesh size means the opening between opposing knots, or opposing corners for knotless webbing. Minimum mesh size means the smallest distance allowed between the inside of one knot or corner to the inside of the opposing knot or corner, regardless of twine size.

* * * * *

(11) * * *

(iii) * * *

(B) Chafing gear means webbing or other material that is attached to the trawl net to protect the net from wear and abrasions either when fishing or hauling on deck.

* * * * *

3. In § 660.13, revise paragraph (d) to read as follows:

§ 660.13 Recordkeeping and reporting.

* * * * *

(d) Declaration reporting requirements—When the operator of a vessel registers a VMS unit with NMFS OLE, the vessel operator must provide NMFS with a declaration report as specified at paragraph (d)(4)(iv) of this section. The operator of any vessel that has already registered a VMS unit with NMFS OLE but has not yet made a declaration, as specified at paragraph (d)(4)(iv) of this section, must provide NMFS with a declaration report upon request from NMFS OLE.

(1) Declaration reports for vessels registered to limited entry permits. The operator of any vessel registered to a limited entry permit must provide NMFS OLE with a declaration report, as specified at paragraph (d)(4)(iv) of this section, before the vessel leaves port on a trip in which the vessel is used to fish in U.S. ocean waters between 0 and 200 nm offshore of Washington, Oregon, or California.

(i) Limited entry trawl vessels fishing in the Shorebased IFQ Program must provide NMFS OLE with a new declaration report each time a different groundfish trawl gear (bottom or midwater only) is fished. The declaration may be made from sea and must be made to NMFS before a different type (bottom or midwater only) of groundfish trawl gear is fished.

(ii) [Reserved]

(2) Declaration reports for all vessels using non-groundfish trawl gear. The operator of any vessel that is not registered to a limited entry permit and which uses non-groundfish trawl gear to fish in the EEZ (3-200 nm offshore), must provide NMFS OLE with a declaration report, as specified at paragraph (d)(4)(iv) of this section, before the vessel leaves port to fish in the EEZ.

(3) Declaration reports for open access vessels using non trawl gear (all types of open access gear other than non-groundfish trawl gear). The operator of any vessel that is not registered to a limited entry permit, must provide NMFS with a declaration report, as specified at paragraph (d)(4)(iv) of this section, before the vessel leaves port on a trip in which the vessel is used to take and retain or possess groundfish in the EEZ or land groundfish taken in the EEZ.

(4) Declaration reports. (i) The operator of a vessel specified in paragraphs (d)(1), (d)(2), and (d)(3) of this section must provide a declaration report to NMFS OLE prior to leaving port on the first trip in which the vessel meets the requirement specified at § 660.14(b) to have a VMS.

(ii) A declaration report will be valid until another declaration report revising the existing gear or fishery declaration is received by NMFS OLE. The vessel operator must send a new declaration report when:

(A) A gear type that is different from the gear type most recently declared for the vessel will be used, or

(B) A vessel will fish in a fishery other than the fishery most recently declared.

(iii) During the period of time that a vessel has a valid declaration report on file with NMFS OLE, it cannot fish with a gear other than a gear type declared by the vessel or fish in a fishery other than the fishery most recently declared.

(iv) Declaration reports will include: The vessel name and/or identification number, the gear type, and the fishery (as defined in paragraph (d)(4)(iv)(A) of this section).

(A) One of the following gear types or sectors must be declared:

(1) Limited entry fixed gear, not including Shorebased IFQ Program,

(2) Limited entry groundfish non-trawl, Shorebased IFQ Program,

(3) Limited entry midwater trawl, non-whiting Shorebased IFQ Program,

(4) Limited entry midwater trawl, Pacific whiting Shorebased IFQ Program,

(5) Limited entry midwater trawl, Pacific whiting catcher/processor sector,

(6) Limited entry midwater trawl, Pacific whiting mothership sector (catcher vessel or mothership),

(7) Limited entry bottom trawl, Shorebased IFQ Program, not including demersal trawl,

(8) Limited entry demersal trawl, Shorebased IFQ Program,

(B) [Reserved]

(v) Upon receipt of a declaration report, NMFS will provide a confirmation code or receipt to confirm that a valid declaration report was received for the vessel. Vessel owners or operators are responsible for retaining the confirmation code or receipt to verify that a valid declaration report was filed.

4. In § 660.25, revise paragraph (b)(4)(vii)(C) to read as follows:

§ 660.25 Permits.

* * * * *

(b) * * *

(4) * * *

(vii) * * *

(C) Limited entry MS permits and limited entry permits with an MS/CV or a C/P endorsement. Limited entry MS permits and limited entry permits with an MS/CV or a C/P endorsement may be registered to another vessel up to two times during the calendar year as long as the second change in vessel registration is back to the original vessel. The original vessel is either the vessel registered to the permit as of January 1, or if no vessel is registered to the permit as of January 1, the original vessel is the first vessel to which the permit is registered after January 1. After the original vessel has been established, the first change in vessel registration would be to another vessel, but any second change in vessel registration must be back to the original vessel. For an MS/CV-endorsed permit on the second change in vessel registration back to the original vessel, that vessel must be used to fish exclusively in the MS Coop Program described § 660.150 for the remainder of the calendar year, and declare in to the limited entry mid water trawl, Pacific whiting mothership sector as specified at § 660.13(d)(4)(iv).

* * * * *

5. In § 660.60, revise paragraphs (h)(7) introductory text, (h)(7)(i) introductory text, (h)(7)(ii)(A), (h)(7)(ii)(B)(1) introductory text, and (h)(7)(ii)(B)(2) to read as follows:

§ 660.60 Specifications and management measures.

* * * * *

(h) * * *

(7) Crossover provisions. Crossover provisions apply to three activities: Fishing on different sides of a management line, fishing in both the limited entry and open access fisheries, or fishing in both the Shorebased IFQ Program and the limited entry fixed gear fishery. Fishery-specific crossover provisions can be found in subparts D through F of this part.

(i) Fishing in management areas with different trip limits. Trip limits for a species or a species group may differ in different management areas along the coast. The following crossover provisions apply to vessels fishing in different geographical areas that have different cumulative or “per trip” trip limits for the same species or species group, with the following exceptions. Such crossover provisions do not apply to: IFQ species (defined at § 660.140(c), subpart D) for vessels that are declared into the Shorebased IFQ Program (see § 660.13(d)(4)(iv)(A), for valid Shorebased IFQ Program declarations); species that are subject only to daily trip limits; or to trip limits for black rockfish off Washington, as described at §§ 660.230(e) and 660.330(e).

* * * * *

(ii) * * *

(A) Fishing in limited entry and open access fisheries with different trip limits. Open access trip limits apply to any fishing conducted with open access gear, even if the vessel has a valid limited entry permit with an endorsement for another type of gear. Except such provisions do not apply to IFQ species (defined at § 660.140(c), subpart D) for vessels that are declared into the Shorebased IFQ Program (see § 660.13(d)(4)(iv)(A) for valid Shorebased IFQ Program declarations). A vessel that fishes in both the open access and limited entry fisheries is not entitled to two separate trip limits for the same species. If a vessel has a limited entry permit registered to it at any time during the trip limit period and uses open access gear, but the open access limit is smaller than the limited entry limit, the open access limit may not be exceeded and counts toward the limited entry limit. If a vessel has a limited entry permit registered to it at any time during the trip limit period and uses open access gear, but the open access limit is larger than the limited entry limit, the smaller limited entry limit applies, even if taken entirely with open access gear.

(B) * * * (1) Vessel registered to a limited entry trawl permit. To fish with open access gear, defined at § 660.11, a vessel registered to a limited entry trawl permit must make the appropriate fishery declaration, as specified at § 660.13(d)(4)(iv)(A). In addition, a vessel registered to a limited entry trawl permit must remove the permit from their vessel, as specified at § 660.25(b)(4)(vi), unless the vessel will be fishing in the open access fishery under one of the following declarations specified at § 660.13(d):

* * * * *

(2) Vessel registered to a limited entry fixed gear permit(s). To fish with open access gear, defined at § 660.11, subpart C, a vessel registered to a limit entry fixed gear permit must make the appropriate open access declaration, as specified at § 660.13(d)(4)(iv)(A). Vessels registered to a sablefish-endorsed permit(s) fishing in the sablefish primary season (described at § 660.231, subpart E) may only fish with the gear(s) endorsed on their sablefish-endorsed permit(s) against those limits.

* * * * *

6. In § 660.112, revise paragraphs (b)(1)(vii), (b)(1)(xi), (b)(1)(xii)(A), (c)(4), and (e)(4) to read as follows:

§ 660.112 Trawl fishery—prohibitions.

* * * * *

(b) * * *

(1) * * *

(vii) For vessels fishing with multiple trawl gear types on a single trip, fail to keep catch from different trawl gears separate and land the catch separately by gear type.

* * * * *

(xi) Mix catch from different hauls before all sampling and monitoring requirements for the hauls have been met.

(xii) * * *

(A) A vessel that is 75-ft (23-m) or less LOA that harvests Pacific whiting and, in addition to heading and gutting, cuts the tail off and freezes the whiting, is not considered to be a C/P vessel nor is it considered to be processing fish, and

* * * * *

(c) * * *

(4) Catch, take, or harvest fish in the MS Coop Program with a vessel that does not have a valid VMS declaration for limited entry midwater trawl, Pacific whiting mothership sector, as specified at § 660.13(d)(4)(iv)(A), subpart C.

* * * * *

(e) * * *

(4) Fish in the C/P Coop Program with a vessel that does not have a valid VMS declaration for limited entry midwater trawl, Pacific whiting catcher/processor sector, as specified at § 660.13(d)(4)(iv)(A).

* * * * *

7. In § 660.113 revise paragraph (b)(3) to read as follows:

§ 660.113 Trawl fishery—recordkeeping and reporting.

* * * * *

(b) * * *

(3) Gear switching declaration. Any person with a limited entry trawl permit participating in the Shorebased IFQ Program using groundfish non-trawl gear (i.e., gear switching) must submit a valid gear declaration reporting such participation as specified in § 660.13(d)(4)(iv)(A).

* * * * *

8. In § 660.130:

a. Remove paragraphs (b)(1), (b)(2), and (b)(3)(iii);

b. Redesignate paragraphs (b)(3) and (b)(4) as (b)(1) and (b)(2), respectively;

c. Revise the newly redesignated paragraphs (b)(1)(ii)(A) and (b)(2);

d. Revise paragraphs (c)(1), (c)(2), (c)(3)(ii), (c)(4)(i)(A), (c)(4)(i)(B), (c)(4)(i)(D) and (E), (c)(4)(ii)(A) and (B), (d)(2)(ii), (e) introductory text, (e)(4)(ii), and (e)(4)(iv).

The revisions read as follows:

§ 660.130 Trawl fishery—management measures.

* * * * *

(b) * * *

(1) * * *

(ii) * * *

(A) Selective flatfish trawl gear. Selective flatfish trawl gear is a type of small footrope trawl gear. The selective flatfish trawl net must be either a two-seamed or four-seamed net with no more than four riblines, excluding the codend. The breastline may not be longer than 3 ft (0.92 m) in length. There may be no floats along the center third of the headrope or attached to the top panel except on the riblines. The footrope must be less than 105 ft (32.26 m) in length. The headrope must be not less than 30 percent longer than the footrope. The headrope shall be measured along the length of the headrope from the outside edge to the opposite outside edge. An explanatory diagram of a selective flatfish trawl net is provided as Figure 1 of part 660, subpart D.

* * * * *

(2) Midwater (pelagic or off-bottom) trawl gear. Midwater trawl gear must have unprotected footropes at the trawl mouth, and must not have rollers, bobbins, tires, wheels, rubber discs, or any similar device anywhere on any part of the net. The footrope of midwater gear may not be enlarged by encircling it with chains or by any other means. Ropes or lines running parallel to the footrope of midwater trawl gear must be bare and may not be suspended with chains or any other materials. Sweep lines, including the bottom leg of the bridle, must be bare. For at least 20 ft (6.15 m) immediately behind the footrope or headrope, bare ropes or mesh of 16-inch (40.6-cm) minimum mesh size must completely encircle the net.

(c) * * *

(1) Fishing with large footrope trawl gear. It is unlawful for any vessel using large footrope gear to fish for groundfish shoreward of the RCAs defined at paragraph (e)(4) of this section and at §§ 660.70 through 660.74, subpart C. The use of large footrope gear is allowed seaward of the RCAs coastwide.

(2) Fishing with small footrope trawl gear. The use of small footrope bottom trawl gear is allowed in all areas where bottom trawling is allowed.

(i) Fishing with selective flatfish trawl gear. The use of selective flatfish trawl gear, a type of small footrope trawl gear, is allowed in all areas where bottom trawling is allowed.

(ii) [Reserved]

(3) * * *

(ii) South of 40°10′ N latitude, midwater groundfish trawl gear is prohibited within and shoreward of the RCA boundaries (see § 660.130(e)(4)(i)) and allowed seaward of the RCA boundaries.

(4) * * *

(i) * * *

(A) A vessel may not have both groundfish trawl gear and non-groundfish trawl gear onboard simultaneously.

(B) If a vessel fishes exclusively with large or small footrope trawl gear during an entire cumulative limit period, the vessel is subject to the cumulative limits for that gear.

* * * * *

(D) If more than one type of groundfish bottom trawl gear (selective flatfish, large footrope, or small footrope) is on board, either simultaneously or successively, at any time during a cumulative limit period, then the most restrictive cumulative limit associated with the groundfish bottom trawl gear on board during that cumulative limit period applies for the entire cumulative limit period.

(E) If a vessel fishes both north and south of 40°10′ N latitude with any type of small or large footrope gear onboard the vessel at any time during the cumulative limit period, the most restrictive trip limit associated with the gear on board applies for that trip and will count toward the cumulative limit for that gear (See crossover provisions at § 660.60(h)(7)).

(ii) * * *

(A) A vessel may not have both groundfish trawl gear and non-groundfish trawl gear onboard simultaneously.

(B) If a vessel fishes both north and south of 40°10′ N latitude with any type of small or large footrope gear onboard the vessel at any time during the cumulative limit period, the most restrictive cumulative limit associated with the gear on board would apply for that trip and all catch would be counted toward that cumulative limit (See crossover provisions at § 660.60(h)(7)).

(d) * * *

(2) * * *

(ii) Catcher vessels. All catch must be sorted by the gear types declared in accordance with § 660.13(d), and to the species groups specified in paragraph (d)(1) of this section for vessels with limited entry permits, except those vessels retaining all catch during a Shorebased IFQ trip (i.e., maximized retention trips). The catch must not be discarded from the vessel and the vessel must not mix catch from hauls until the observer has sampled the catch. Catch separated by trawl gear type must be landed separately by trawl gear type. Prohibited species must be sorted according to the following species groups: Dungeness crab, Pacific halibut, Chinook salmon, other salmon. Non-groundfish species must be sorted as required by the state of landing.

* * * * *

(e) Groundfish conservation areas (GCAs) applicable to trawl vessels. A GCA, a type of closed area, is a geographic area defined by coordinates expressed in degrees of latitude and longitude. The latitude and longitude coordinates of the GCA boundaries are specified at §§ 660.70 through 660.74. If a vessel is fishing within a GCA listed in this paragraph (e) using trawl gear authorized for use within a GCA, all prohibited gear: must be stowed below deck; or, if the gear cannot readily be moved, must be stowed in a secured and covered manner detached from all towing lines so that it is rendered unusable for fishing; or, if remaining on deck uncovered, must be stowed disconnected from the trawl doors with the trawl doors hung from their stanchions. The following GCAs apply to vessels participating in the limited entry trawl fishery. Additional closed areas that specifically apply to vessels using midwater groundfish trawl gear are described at § 660.131(c).

* * * * *

(4) * * *

(ii) Trawl vessels may transit through an applicable GCA, with or without groundfish on board, provided all prohibited groundfish trawl gear: Is stowed below deck; or, if the gear cannot readily be moved, is stowed in a secured and covered manner detached from all towing lines so that it is rendered unusable for fishing; or, if remaining on deck uncovered, is stowed disconnected from the trawl doors with the trawl doors hung from their stanchions. These restrictions do not apply to vessels allowed to fish within the trawl RCA under paragraph (e)(4)(i) of this section.

* * * * *

(iv) If a vessel fishes in the trawl RCA using midwater trawl gear, it may also fish outside the trawl RCA with groundfish bottom trawl gear on the same trip. Nothing in these Federal regulations supersedes any state regulations that may prohibit trawling shoreward of the fishery management area (3-200 nm).

* * * * *

9. In § 660.140, remove paragraphs (c)(1) and (h)(2)(viii)(I), and redesignate paragraph (c)(2) as (c)(1), revise newly redesignated paragraph (c)(1), and reserve paragraph (c)(2) to read as follows:

§ 660.140 Shorebased IFQ Program.

* * * * *

(c) * * *

(1) IFQ management areas. IFQ management areas are as follows:

(i) Between the US/Canada border and 40°10′ N lat.,

(ii) Between 40°10′ N lat. and 36° N lat.,

(iii) Between 36° N lat. and 34°27′ N lat., and

(iv) Between 34°27′ N lat. and the US/Mexico border.

(2) [Reserved]

* * * * *

10. Table 1 (North) and Table 1 (South) to part 660, subpart D are revised to read as follows:

11. In § 660.333, revise paragraphs (b)(1), (c)(1), and (d)(1) to read as follows:

§ 660.333 Open access non-groundfish trawl fishery—management measures

* * * * *

(b) * * *

(1) It is declared “non-groundfish trawl gear for ridgeback prawn” under § 660.13(d)(4)(iv)(A)(10), regardless of whether it is registered to a Federal limited entry trawl-endorsed permit; and

* * * * *

(c) * * *

(1) It is declared “non-groundfish trawl gear for California halibut” under § 660.13(d)(4)(iv)(A)(11), regardless of whether it is registered to a Federal limited entry trawl-endorsed permit;

* * * * *

(d) * * *

(1) It is declared “non-groundfish trawl gear for sea cucumber” under § 660.13(d)(4)(iv)(A)(12), regardless of whether it is registered to a Federal limited entry trawl-endorsed permit;

* * * * *

[FR Doc. 2018-19343 Filed 9-6-18; 8:45 am]

BILLING CODE 3510-22-P